DEPARTMENT OF TRANSPORTATION

Federal Railroad Administration

[Docket No. FRA-2020-0014]

Program Approval; Canadian National Railway

AGENCY: Federal Railroad Administration (FRA), Department of Transportation (DOT).

ACTION: Notice of approval.

SUMMARY: FRA is issuing this notice to explain its rationale for approving a Canadian National Railway (CN) petition for a Test Program designed to test track inspection technologies (i.e., an autonomous track geometry measurement system) and new operational approaches to track inspections and its rationale for granting a limited, temporary suspension of a substantive FRA rule that is necessary to facilitate the conduct of the Test Program.

FOR FURTHER INFORMATION CONTACT: Yu-Jiang Zhang, Staff Director, Track Division, Office of Railroad Safety, FRA, 1200 New Jersey Avenue SE, Washington, DC 20590, telephone (202) 493-6460 or email yujiang.zhang@dot.gov; Aaron Moore, Attorney, Office of Chief Counsel, FRA, 1200 New Jersey Avenue SE, Washington, DC 20590, telephone (202) 493-7009 or email aaron.moore@dot.gov.

SUPPLEMENTARY INFORMATION: On December 11, 2019, CN petitioned FRA under Title 49 Code of Federal Regulations (CFR) Section 211.51 to suspend certain requirements of FRA's track safety regulations to conduct a program to test new track inspection technologies (i.e., an autonomous track geometry measurement system) and new operational approaches to track inspections. CN also submitted a written Test Program providing a description of the proposed tests and the geographic scope of the testing territory.

The Test Program specifies that the tests will be conducted on approximately 1,204 miles of main line and siding tracks on CN's corridor between Chicago and New Orleans, spanning 11 subdivisions.

The Test Program is designed to test autonomous track geometry measurement systems and gradually decrease manual visual inspections as an alternative to FRA's inspection frequency requirements. CN indicates that it will continue to use other inspection technologies during the Test Program, including: (1) Vehicle Track Interaction monitoring systems; (2) ultrasonic rail inspection systems; and (3) optical joint bar inspection systems. The Test Program will be carried out in four separate phases over the course of 12 months, as detailed in Exhibit C of the Test Program (available for review at www.regulations.gov (docket number FRA-2020-0014)).

After review and analysis of CN's petition for a Test Program, subject to certain conditions designed to ensure safety, FRA approved CN's Test Program and suspended the requirements of 49 CFR 213.233(b)(3) ¹ and (c) as necessary to carry out the Test Program. A copy of FRA's letter approving CN's Test Program and granting the requested limited temporary suspension of 49 CFR 213.233(b)(3) and (c), as well as a complete copy of the Test Program, is available in docket number FRA-2020-0014 at www.regulations.gov. FRA's letter approving CN's Test Program and granting the requested limited temporary suspension of certain regulations specifically details the conditions CN will need to undertake during the Test Program. As required by 49 CFR 211.51(c), FRA is providing this explanatory statement describing the Test Program.

¹ The suspension of 49 CFR 213.233(b)(3) only applies to Phases 3 and 4 of the Test Program.

As explained more fully in its approval letter, FRA finds that the temporary, limited suspension of 49 CFR 213.233(b)(3) and (c) is necessary to the conduct of the approved Test Program, which is specifically designed to evaluate the effectiveness of new automated track inspection technologies and operational methods. Furthermore, FRA also finds that the scope and application of the granted suspension of 49 CFR 213.233(b)(3) and (c) as applied to the Test Program are limited to that necessary to conduct the Test Program. Finally, FRA's approval letter outlines the conditions of the Test Program that will ensure standards sufficient to assure safety.

John Karl Alexy,
Associate Administrator for Railroad Safety, Chief Safety Officer.

[FR Doc. 2020-07427 Filed 4-8-20; 8:45 am]

BILLING CODE 4910-06-P